SECURITIES AND EXCHANGE COMMISSION

[Release No. 34-79859; File No. SR-BatsBZX-2016-42]

Self-Regulatory Organizations; Bats BZX Exchange, Inc.; Notice of Withdrawal of a Proposed Rule Change To Amend the Options Regulatory Fee

January 23, 2017.

On July 20, 2016, Bats BZX Exchange, Inc. (the “Exchange”) filed with the Securities and Exchange Commission (the “Commission”), pursuant to Section 19(b)(1) of the Securities Exchange Act of 1934 (the “Act”),¹ and Rule 19b-4 thereunder,² a proposed rule change to modify the Options Regulatory Fee (“ORF”). The proposed rule change was published for comment in the Federal Register on August 5, 2016.³ On September 15, 2016, the Commission temporarily suspended the Exchange's proposal and simultaneously instituted proceedings to determine whether to approve or disapprove the proposed rule change.⁴ The Commission received three comment letters on the proposal.⁵

¹ 15 U.S.C. 78s(b)(1).

² 17 CFR 240.19b-4.

³ See Securities Exchange Act Release No. 78453 (August 1, 2016), 81 FR 51954 (August 5, 2016).

⁴ See Securities Exchange Act Release No. 78849, 81 FR 64960 (September 21, 2016).

⁵ See Letters to Brent J. Fields, Secretary, Commission, from Ellen Greene, Managing Director, Securities Industry and Financial Markets Association, dated October 14, 2016; Joseph Kinahan, Managing Director, Client Advocacy and Market Structure, TD Ameritrade, Inc., dated October 26, 2016; and Jeanine Hightower, Chief Operating Officer, International Securities Exchange, LLC, dated October 27, 2016.

On January 10, 2017, the Exchange withdrew the proposed rule change (SR-BatsBZX-2016-42).

For the Commission, by the Division of Trading and Markets, pursuant to delegated authority.⁶
⁶ 17 CFR 200.30-3(a)(12).
Eduardo A. Aleman,
Assistant Secretary.

[FR Doc. 2017-01829 Filed 1-26-17; 8:45 am]

BILLING CODE 8011-01-P